NATIONAL AERONAUTICS AND SPACE ADMINISTRATION

2 CFR Part 1882

14 CFR Parts 1267, 1274

RIN 2700-AE15

NASA Implementation of OMB Guidance for Drug-Free Workplace Requirements (Financial Assistance); Technical Amendments

AGENCY: National Aeronautics and Space Administration (NASA).

ACTION: Final rule.

SUMMARY: On September 22, 2014, the National Aeronautics and Space Administration (NASA) published a direct final rule which rearranged existing drug-free workplace requirements for financial assistance in the Code of Federal Regulations (CFR). The action was consistent with the Office of Management and Budget's (OMB) guidance on drug-free workplace requirements for financial assistance. This rule makes amendments for editorial purposes.

DATES: Effective: October 21, 2014.

FOR FURTHER INFORMATION CONTACT: Leigh Pomponio via email at leigh.pomponio@NASA.gov, or (202) 358-0592.

SUPPLEMENTARY INFORMATION: A direct final rule was published in the Federal Register on September 22, 2014 (79 FR 56486-56488). In order to correct certain elements in 2 CFR part 1882, this document makes editorial changes to the NASA Implementation of OMB Guidance for Drug-Free Workplace Requirements (Financial Assistance). The table of contents for added part 1882 contained an entry for § 1882.510, but no text for that section was provided. NASA did not intend for that section to be added. it is removed from the September 22, 2014, Federal Register issue by this correction.

In addition, § 1882.5 is listed incorrectly in the table of contents as § 1882.100. This document correctly redesignates § 1882.100 as § 1882.5.

List of Subjects in 2 CFR Part 1882

Grants and agreements, Administrative practice and procedure, Drug-free workplace, Grant programs, Reporting and recordkeeping requirements.

Correction

Therefore, in FR Doc. No. 22365, in the issue of September 22, 2014, make the following correction:

1. On page 56487, in the third column, in the table of contents for added part 1882, remove the entry for 1882.510.

Cynthia Boots,
Alternate Federal Register Liaison.

Therefore, NASA amends 2 CFR part 1882 with the following correction:

PART 1882—REQUIREMENTS FOR DRUG-FREE WORKPLACE (FINANCIAL ASSISTANCE)

1. The authority citation for part 1882 continues to read as follows:

Authority: 41 U.S.C. 701 et seq.; 51 U.S.C. 20113(e).

§ 1882.100 [Redesignateed as § 1882.5]

2. Section 1882.100 is redesignated as § 1882.5.

[FR Doc. 2014-23943 Filed 10-20-14; 8:45 am]

BILLING CODE 7510-13-P